ENVIRONMENTAL PROTECTION AGENCY

[EPA-HQ-OPP-2006-0169; FRL-7766-4]

The Association of American Pesticide Control Officials (AAPCO)/State FIFRA Issues Research and Evaluation Group (SFIREG) Working Committee on Pesticide Operations and Management (WC/POM) Public Meeting

AGENCY: Environmental Protection Agency (EPA).

ACTION: Notice.

SUMMARY: The Association of American Pesticide Control Officials (AAPCO)/State FIFRA Issues Research and Evaluation Group (SFIREG) Working Committee on Pesticide Operations and Management (WC/POM) will hold a 2-day meeting, beginning on April 3, 2006 and ending April 4, 2006. This notice announces the location and times for the meeting and sets forth the tentative agenda topics.

DATES: The meeting will be held on April 3, 2006 from 9 a.m. to 5 p.m. and 9 a.m. to 12 noon on April 4, 2006.

ADDRESSES: The meeting will be held at La Fonda, 100 East San Francisco Street, Santa Fe, NM 87501; Telephone number: 505-982-5511.

FOR FURTHER INFORMATION CONTACT: Georgia McDuffie, Field and External Affairs Division (7506C), Office of Pesticide Programs, Environmental Protection Agency, 1200 Pennsylvania Ave., NW, Washington, DC 20460-0001; telephone number: (703) 605-0195; fax number: (703) 308-1850; e-mail address: mcduffie.georgia@epa.gov, or Philip H. Gray, SFIREG Executive Secretary, P.O. Box 1249, Hardwick, VT 05843-1249; telephone number: (802) 472-6956; fax (802) 472-6957; e-mail address: aapco@plainfield.bypass.com

SUPPLEMENTARY INFORMATION:

I. General Information

A. Does this Action Apply to Me?

You may be potentially affected by this action if you all parties interested in SFIREG information exchange relationship with EPA regarding important issues related to human health, environmental exposure to pesticides, and insight into EPA's decision-making process are invited and encouraged to attend the meetings and participate as appropriate.

This action is directed to the public in general, and may be of particular interest to those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under Docket identification number (ID) EPA-HQ-OPP-2006-0169; FRL-7766-4. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the Federal Register listings at http://www.epa.gov/fedrgstr/.

C. Tentative Agenda:

1. PPDC Worker Safety Sub Group Update.

2. Proposed Label Identification Numbering Scheme for Printed Pesticide Labels.

3. U.S. Fish and Wildlife Service Consultations and Special Local Need Application.

4. Endangered Species Enforcement Issues Open Discussion

5. New Pesticide Spray Drift Language Regarding Adverse Effects “For Use By” Label Statement Proposal.

6. Regional Section 18 Options.

7. Section 18 Changes and Resistance Management.

8. EPA Update/Briefing:

• a. Office of Pesticide Programs Update.

• b. Office of Enforcement Compliance Assurance Update.

9. POM Working Committee Workgroups Issue Papers/Updates

List of Subjects

Environmental protection, insert additional terms as appropriate.

Dated: March 8, 2006.
William R. Diamond,
Direction, Field External Affairs Division, Office of Pesticide Programs

[FR Doc. 06-2602 Filed 3-21-06; 8:45 am]

BILLING CODE 6560-50-S